SECURITIES AND EXCHANGE COMMISSION

[Release No. 34-69433; File No. 4-661]

Credit Ratings Roundtable

AGENCY: Securities and Exchange Commission.

ACTION: Notice of roundtable discussion; request for comment.

SUMMARY: The Securities and Exchange Commission will host a one day roundtable to discuss various matters related to credit ratings. The roundtable will consist of three panels. The first panel will examine issues in connection with the possibility of developing a credit rating assignment system. The second panel will discuss the effectiveness of the Commission's current system under the Securities Exchange Act of 1934 for encouraging unsolicited ratings of asset-backed securities. The third panel will focus on other potential alternatives to the current issuer pay business model.

The roundtable discussion will be held in Room L-006 (the multi-purpose room) at the Securities and Exchange Commission's headquarters located at 100 F Street NE., in Washington, DC 20549. The public is invited to observe the roundtable discussion. Seating will be available on a first-come, first-served basis. The roundtable discussion also will be available via webcast on the Commission's Web site at www.sec.gov.

DATES: The roundtable discussion will take place on May 14, 2013. The Commission will accept comments regarding issues addressed at the roundtable until June 3, 2013.

ADDRESSES: Comments may be submitted by any of the following methods:

Electronic Comments

• Use the Commission's Internet comment form (http://www.sec.gov/rules/other.shtml); or

• Send an email to rule-comments@sec.gov. Please include File Number 4-661 on the subject line.

Paper Comments

• Send paper comments in triplicate to Elizabeth M. Murphy, Secretary, Securities and Exchange Commission, 100 F Street NE., Washington, DC 20549-1090.

All submissions should refer to File Number 4-661. This file number should be included on the subject line if email is used. To help us process and review your comments more efficiently, please use only one method. The Commission will post all comments on the Commission's Internet Web site (http://www.sec.gov/rules/other.shtml). Comments are also available for Web site viewing and printing in the Commission's Public Reference Room, 100 F Street NE., Washington, DC 20549, on official business days between the hours of 10:00 a.m. and 3:00 p.m. All comments received will be posted without change; we do not edit personal identifying information from submissions. You should submit only information that you wish to make available publicly.

FOR FURTHER INFORMATION CONTACT: Scott Davey at (212) 336-0075, Office of Credit Ratings, Securities and Exchange Commission, 3 World Financial Center, New York, NY 10281-1022.

Dated: April 23, 2013.
By the Commission.
Elizabeth M. Murphy,
Secretary.

[FR Doc. 2013-09931 Filed 4-26-13; 8:45 am]

BILLING CODE 8011-01-P